DEPARTMENT OF VETERANS AFFAIRS

38 CFR Part 17

RIN 2900-AR01

VA Pilot Program on Graduate Medical Education and Residency; Extension of Comment Period

AGENCY: Department of Veterans Affairs.

ACTION: Proposed rule; extension of comment period.

SUMMARY: The Department of Veterans Affairs (VA) is extending the comment period of the proposed rule “Pilot Program on Graduate Medical Education and Residency.” This action is being taken in response to requests from stakeholders to allow additional time for interested persons to submit comments on the proposed rule.

DATES: VA is extending the comment period on the proposed rule published on February 4, 2022 by 90 days. 87 FR 6456. Ninety days from April 5, 2022 is July 4, 2022, which is a federal holiday; therefore, the VA is extending the comment period to the following day, July 5, 2022. Comments must now be received on or before July 5, 2022.

ADDRESSES: Comments must be submitted through www.Regulations.gov. Comments received will be available at regulations.gov for public viewing, inspection or copies.

FOR FURTHER INFORMATION CONTACT: Andrea Bennett, Office of Academic Affiliations, Department of Veterans Affairs, at (202) 368-0324 or VAMission403Help@va.gov.

SUPPLEMENTARY INFORMATION: On February 4, 2022, VA issued a proposed rule to revise its medical regulations to establish a new pilot program related to graduate medical education and residency, as required by section 403 of the John S. McCain III, Daniel K. Akaka, and Samuel R. Johnson VA Maintaining Internal Systems and Strengthening Integrated Outside Network Act of 2018 (Pub. L. 115-182, hereinafter referred to as the MISSION Act). See 87 FR 6456.

Consistent with section 403 of the MISSION Act, the proposed rule established parameters by which VA would determine those covered facilities in which residents would be placed under the pilot program, such as certain consideration factors to determine whether there is a clinical need for providers in areas where residents would be placed. VA further proposed to prioritize placement of residents under the pilot program in Indian Health Service facilities, Indian tribal or tribal organization facilities, certain underserved VA facilities, or other covered facilities, as required by section 403 of the MISSION Act. In addition, VA proposed parameters to pay resident stipends and benefits and certain startup costs of new residency programs if residents are placed in such programs under the pilot program.

The proposed rule provided an opportunity to submit comments by April 5, 2022. In response to requests from stakeholders to extend the comment period, VA extends the comment period by 90 days to allow additional time for interested persons to submit comments on the proposed rule. Comments must now be received on or before July 5, 2022.

Signing Authority

Denis McDonough, Secretary of Veterans Affairs, approved this document on March 21, 2022, and authorized the undersigned to sign and submit the document to the Office of the Federal Register for publication electronically as an official document of the Department of Veterans Affairs.

Consuela Benjamin,
Regulation Development Coordinator, Office of Regulation Policy & Management, Office of General Counsel, Department of Veterans Affairs.

[FR Doc. 2022-06293 Filed 3-24-22; 8:45 am]

BILLING CODE 8320-01-P